DEPARTMENT OF COMMERCE

National Oceanic and Atmospheric Administration

RIN 0648-XC679

North Pacific Fishery Management Council; Public Meeting

AGENCY: National Marine Fisheries Service (NMFS), National Oceanic and Atmospheric Administration (NOAA), Commerce.

ACTION: Meeting of the North Pacific Fishery Management Council (Council) and Alaska Board of Fisheries (AK BOF) Joint Protocol Committee.

SUMMARY: The North Pacific Fishery Management Council Joint Protocol Committee of the AK B0F and Council will meet in Juneau, AK.

DATES: The meeting will be held on June 12, 2013, from 9 a.m. to 5 p.m.

ADDRESSES: The meeting will be held at the Centennial Hall, 101 Egan Drive, Ballroom 1, Juneau, AK.

Council address: North Pacific Fishery Management Council, 605 W. 4th Ave., Suite 306, Anchorage, AK 99501-2252.

FOR FURTHER INFORMATION CONTACT: AK BOF Staff, (907) 465-4110 or Council staff, (907) 271-2809.

SUPPLEMENTARY INFORMATION: The Committee will review the following: Updates on Gulf of Alaska (GOA) non-pollock Chinook bycatch and other salmon bycatch issues, GOA trawl bycatch management, restructured observer program and electronic monitoring, Steller sea lion (SSL) Environmental Impact Statement (EIS) and associated issues, including Aleutian Islands cod processing sideboards and relationship to BOF state water groundfish fishery proposals; Update on definition of a fishing guide and coordination of state and federal regulations and report on Pacific cod and other groundfish proposals to the BOF. The Agenda is subject to change, and the latest version will be posted at http://www.alaskafisheries.noaa.gov/npfmc/.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen at (907) 271-2809 at least 7 working days prior to the meeting date.

Dated: May 14, 2013.
Tracey L. Thompson,
Acting Deputy Director, Office of Sustainable Fisheries, National Marine Fisheries Service.

[FR Doc. 2013-11788 Filed 5-16-13; 8:45 am]

BILLING CODE 3510-22-P